DEPARTMENT OF HOUSING AND URBAN DEVELOPMENT

[Docket No. FR-7080-N-50]

30-Day Notice of Proposed Information Collection; Evaluation of the HUD-DOJ Pay for Success Permanent Supportive Housing Demonstration

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments due November 21, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Anna Guido, Clearance Officer, REE, Department of Housing and Urban Development, 451 7th Street SW, Room 8210, Washington, DC 20410-5000; email PaperworkReductionActOffice@hud.gov.

FOR FURTHER INFORMATION CONTACT: Anna Guido, Reports Management Officer, REE, Department of Housing and Urban Development, 451 7th Street SW, Washington, DC 20410; email Anna.P.Guido@hud.gov or telephone (202) 402-3400. This is not a toll-free number. HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Guido.

SUPPLEMENTARY INFORMATION: This notice informs the public that HUD is seeking approval from OMB for the information collection described in Section A.

The Federal Register notice that solicited public comment on the information collection for a period of 60 days was published on June 28, 2024 at 89 FR 54029.

A. Overview of Information Collection

Title of Information Collection: Evaluation of the HUD-DOJ Pay for Success Permanent Supportive Housing Demonstration.

MB Approval Number: 2528-0319.

Type of Request: Extension of a currently approved collection.

Form Number: N/A.

Description of the need for the information and proposed use: The U.S. Departments of Housing and Urban Development (HUD) and Justice (DOJ) entered into an interagency collaboration that combines DOJ's mission to promote safer communities by focusing on the reentry population with HUD's mission to end chronic homelessness. This collaboration resulted in the HUD-DOJ Pay for Success Permanent Supportive Housing Demonstration with $8.68 million awarded to seven communities to develop supportive housing for persons cycling between the jail or prison systems and the homeless service systems using pay for success (PFS) as a funding mechanism. HUD announced seven grantees from across the country in June 2016. As of August 2024, four grantee communities remain. The PFS Demonstration grant supports activities throughout the PFS lifecycle, including feasibility analysis, transaction structuring, and outcome evaluation and success payments, with each grantee receiving funds for different stages in the PFS lifecycle. Through the national evaluation, which is funded through an interagency agreement between HUD and DOJ and managed by HUD's Office of Policy Development and Research, HUD-DOJ seek to assess whether PFS is a viable model for scaling supportive housing to improve outcomes for a re-entry population. The main goal of the evaluation is to learn how the PFS model is implemented in diverse settings with different structures, populations, and community contexts. The Urban Institute has been conducting a multi-disciplinary, multi-method approach to “learn as we do” and meet the key objectives of the formative evaluation. To understand project implementation, the evaluation includes data collection on both the time that project partners dedicate to each PFS project as well as PFS partner perceptions and interactions and community-level changes that may benefit the target population. This information collection request is for an ongoing time survey and an annual partnership web survey. The time survey will be used to assess staff time spent on development of each PFS project throughout the different lifecycle phases and the partnership survey will be used to document partner perceptions and interactions and community-level changes that may benefit the target population.

Information collection | Number of respondents | Frequency of response | Responses per annum | Burden hours per response | Annual burden hours | Hourly cost per response | Annual cost
HUD-DOJ PFS Key Project Partners (Annual Web-based Partnership Survey) | 65 | 1 | 65 | .33 | 21.67 | $32.55 | $528.94
HUD-DOJ PFS Key Project Partners (Quarterly Time Use Survey) | 17 | 4 | 68 | 1.00 | 68.00 | 32.55 | 2,213.40
Total | 82 |  |  |  | 84.25 |  | 2,742.34

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. Chapter 35.

Anna Guido,
Department Reports Management Officer, Office of Policy Development and Research, Chief Data Officer.

[FR Doc. 2024-24406 Filed 10-21-24; 8:45 am]

BILLING CODE 4210-67-P